ENVIRONMENTAL PROTECTION AGENCY

[FRL-9959-96-OAR]

Notice Regarding Withdrawal of Obligation To Submit Information

AGENCY: Environmental Protection Agency.

ACTION: Notice.

SUMMARY: The Environmental Protection Agency (EPA) is providing notice that it is withdrawing its requests that owners and operators in the oil and natural gas industry provide information on equipment and emissions at existing oil and gas operations.

FOR FURTHER INFORMATION CONTACT: Peter Tsirigotis, Director, Sector Policies & Programs Division, Office of Air Quality Planning & Standards, Office of Air & Radiation, Mail code D205-01, U.S. Environmental Protection Agency, 109 T.W. Alexander Drive, Research Triangle Park, NC 27709; 1-888-372-8696; icr@epa.gov.

SUPPLEMENTARY INFORMATION: In 2016, EPA sent letters to more than 15,000 owners and operators in the oil and gas industry, requiring them to provide information. The information request comprised two parts: An “operator survey” that asked for basic information on the numbers and types of equipment at onshore oil and gas production facilities in the United States, and a “facility survey” asking for more detailed information on sources of methane emissions and emissions control devices or practices in use by a representative sampling of facilities in several segments of the oil and gas industry. EPA is withdrawing both parts of the information request.

The withdrawal is occurring because EPA would like to assess the need for the information that the agency was collecting through these requests, and reduce burdens on businesses while the Agency assesses such need. This also comes after the Agency received a letter on March 1, 2017 from nine state Attorneys General and the Governors of Mississippi and Kentucky, expressing concern with the burdens on businesses imposed by the pending requests. EPA takes these concerns seriously and is committed to strengthening its partnership with the states.

The withdrawal was effective upon announcement on March 2, 2017. As such, owners and operators—including those who have received an extension to their due dates for providing the information—are no longer required to respond.

Dated: March 2, 2017.
E. Scott Pruitt,
Administrator.

[FR Doc. 2017-04458 Filed 3-2-17; 4:15 pm]

BILLING CODE 6560-50-P